DEPARTMENT OF HOMELAND SECURITY

Coast Guard

33 CFR Part 147

[Docket No. USCG-2011-1143]

RIN 1625-AA00

Safety Zone; KULLUK, Outer Continental Shelf Mobile Offshore Drilling Unit (MODU), Beaufort Sea, AK

AGENCY: Coast Guard, DHS.

ACTION: Temporary final rule.

SUMMARY: The Coast Guard is establishing a 500-meter safety zone in the navigable waters, from the surface to seabed, around the MODU KULLUK while anchored or deploying and recovering moorings on location in order to drill exploratory wells at various prospects located in the Beaufort Sea Outer Continental Shelf, Alaska, on or about July 1, 2012, through November 30, 2012. See TABLE 1. The purpose of the temporary safety zone is to protect the MODU from surface and subsurface vessels that are operating outside the normal shipping channels and fairways. Placing a safety zone around the MODU will significantly reduce the threat of allisions that could result in oil spills, and releases of natural gas, and thereby protect the safety of life, property, and the environment. Lawful demonstrations may be conducted outside of the safety zone.

DATES: The temporary safety zone becomes effective on July 1, 2012, and terminates on December 1, 2012, unless sooner terminated by the Commander, Seventeenth Coast Guard District.

ADDRESSES: Comments and material received from the public, as well as documents mentioned in this preamble as being available in the docket, are part of docket USCG-2011-1143 and are available online by going to http://www.regulations.gov, inserting USCG-2011-1143 in the “Keyword” box, and then clicking “Search.” This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email LT Jason Smilie, Seventeenth Coast Guard District (dpi); telephone 907-463-2809, Jason.A.Smilie@uscg.mil. If you have questions on viewing or submitting material to the docket, call Renee V. Wright, Program Manager, Docket Operations, telephone 202-366-9826.

SUPPLEMENTARY INFORMATION:

Regulatory Information

On February 23, 2012, the Coast Guard published a notice of proposed rulemaking (NPRM) entitled “Safety Zone; KULLUK, Outer Continental Shelf Mobile Offshore Drilling Unit (MODU), Beaufort Sea, Alaska” in the Federal Register (77 FR 10711). The NPRM included a 30-day comment period. We received 2 (two) submissions with comments on the proposed rule. No public meeting was requested, and none was held.

Under 5 U.S.C. 553(d)(3), the Coast Guard finds that good cause exists for making this rule effective less than 30 days after publication in the Federal Register. The Coast Guard finds that good cause exists for making this rule effective less than 30 days after publication because to do otherwise would be contrary to the public interest since immediate action is required to protect mariners, vessels, and the environment from potential harm while the MODU KULLUK is anchored or deploying and recovering moorings on location.

Basis and Purpose

The legal basis for the rule is 14 U.S.C. 85; 43 U.S.C. 1333; Department of Homeland Security Delegation No. 0170.1. Collectively they provide the authority for the Coast Guard to establish safety zones on the Outer Continental Shelf.

The Coast Guard is establishing a temporary safety zone in the navigable waters, from the surface to seabed, around the MODU KULLUK while anchored or deploying and recovering moorings on location in order to drill exploratory wells in several prospects located in the Beaufort Sea during the 2012 drilling season.

The request for the temporary safety zone was made by Shell Exploration & Production Company due to safety concerns for both the personnel aboard the KULLUK and the environment. Shell Exploration & Production Company indicated that it is highly likely that any allision or inability to identify, monitor or mitigate any risks or threats, including ice-related hazards that might be encountered, could result in a catastrophic event. Incursions into the safety zone by unapproved vessels, including subsurface vessels such as submersibles, could degrade the ability to monitor and mitigate such risks. In evaluating this request, the Coast Guard explored relevant safety factors and considered several criteria, including but not limited to: (1) The level of shipping activity around the operation; (2) safety concerns for personnel aboard the vessel; (3) concerns for the environment given the sensitivity of the environmental and subsistence importance to the indigenous population; (4) the lack of any established shipping fairways, fueling and supply storage/operations, and size of the crew increase the likelihood that an allision could result in a catastrophic event; (5) the recent and potential future maritime traffic in the vicinity of the areas; (6) the types of vessels navigating in the vicinity of the area; (7) the structural configuration of the vessel, and (8) the need to allow for lawful demonstrations without endangering the safe operation of the KULLUK. Navigation in the vicinity of the safety zone could consist of large commercial shipping vessels, fishing vessels, cruise ships, tugs with tows and the occasional recreational vessel. For any group or individual intending to conduct lawful demonstrations in the vicinity of the KULLUK, these demonstrations must be conducted outside the safety zone.

Results from a thorough and comprehensive examination of the criteria, IMO guidelines, and existing regulations warrant the establishment of the temporary safety zone. The regulation will significantly reduce the threat of allisions that could result in oil spills and releases. Furthermore, the regulation will increase the safety of life, property, and the environment in the Beaufort Sea by prohibiting entry into the zone unless specifically authorized by the Commander, Seventeenth Coast Guard District, or a designated representative. Due to the remote location and the need to protect the environment, the Coast Guard may use criminal sanctions to enforce the safety zone as appropriate.

The temporary safety zone will be around the KULLUK while anchored or deploying and recovering moorings on location in order to drill exploratory wells in various locations in the Beaufort Sea Outer Continental Shelf, Alaska, during the 2012 timeframe.

Shell Exploration & Production Company has four proposed drill sites within the Suvulliq and Torpedo prospects, Beaufort Sea, Alaska (See Table 1).

Table 1—Prospect Locations
Drill site | Lease file No. | NR06-04 Flaxman Island lease block No. | Surface location (NAD 83)*: Latitude (N) | Surface location (NAD 83)*: Longitude (W) | Distance to mainland shore mi (km)
Sivulliq G | OCS-Y 1805 | 6658 | 70°23′46.82″ | 146°01′03.46″ | 16.6 (26.7)
Sivulliq N | OCS-Y 1805 | 6658 | 70°23′29.58″ | 145°58′52.53″ | 16.2 (26.1)
Torpedo H | OCS-Y 1941 | 6610 | 70°27′01.62″ | 145°49′32.07″ | 20.8 (33.5)
Torpedo J | OCS-Y 1936 | 6559 | 70°28′56.94″ | 145°53′47.15″ | 23.1 (37.2)

During the 2012 timeframe, Shell Exploration & Production Company has proposed drilling up to two exploration wells at the identified Beaufort Sea prospects depending on favorable ice conditions, weather, sea state, and any other pertinent factors. Each of these drill sites will be permitted for drilling in 2012 to allow for operational flexibility in the event sea ice conditions prevent access to one of the locations. The number of actual wells that will be drilled will depend on ice conditions and the length of time available for the 2012 drilling season. The predicted “average” drilling season, constrained by prevailing ice conditions and regulatory restrictions, is long enough for two to three typical exploration wells to be drilled.

The actual order of drilling activities will be controlled by an interplay between actual ice conditions immediately prior to movement of the KULLUK, ice forecasts, any regulatory restrictions with respect to the dates of allowed operating windows, whether the planned drilling activity involves only drilling the shallow non-objective section or penetrating potential hydrocarbon zones, the availability of permitted sites having approved shallow hazards clearance, the anticipated duration of each contemplated drilling activity, the results of preceding wells and Marine Mammal Monitoring and Mitigation plan requirements.

The planned exploration drilling in the identified lease blocks will be conducted with the KULLUK. The KULLUK is a true Mobile Offshore Drilling Unit, and is a large self-contained drilling vessel that offers full accommodations for up to 108 persons. The hull has been reinforced for ice resistance.

The KULLUK has a “persons on board” capacity of 108, and it is expected to be at capacity for most of its operating period. The KULLUK′s personnel will include its crew, as well as Shell employees, third party contractors, Alaska Native Marine Mammal Observers and possibly Bureau of Ocean Energy Management, Regulation and Enforcement (BOEMRE) personnel.

While conducting exploration drilling operations, the KULLUK will be anchored. The KULLUK has an Arctic Class IV hull design, is capable of drilling in up to 600 feet (ft) [182.9 meters (m)]) of water and is moored using a 12-point anchor system. The KULLUK′s mooring system consists of 12 Hepburn winches located on the outboard side of the main deck, Anchor wires lead off the bottom of each winch drum inboard for approximately 55 ft (16.8 m). The wire is then redirected by a sheave, down through a hawse pipe to an underwater, ice protected, swivel fairlead. The wire travels from the fairlead directly under the hull to the anchor system on the seafloor. The KULLUK will have an anchor radius of 3,117 ft (950 m) for the Sivulliq drill sites and 2,995 ft (913 m) for the Torpedo drill sites. Anchor marker buoys will delineate the outer edge of the anchor spread. The anchor spread, which radiates from the center of the KULLUK, may pose a fouling hazard to any vessel attempting to anchor within the anchor spread. Fouling of the KULLUK anchor lines may endanger the MODU, its 108 persons onboard, the third party vessel, persons onboard the third party vessel and the environment.

The center point of the KULLUK will be positioned within the prospect location in the Beaufort Sea at the coordinates listed below (See Table 1).

The KULLUK will transit through the Bering Strait on or about July 1, 2012, and onto a prospect location when ice allows. Drilling will be curtailed on or before October 31, 2012. The MODU and support vessels will depart the Beaufort Sea at the conclusion of the 2012 drilling season.

Discussion of Comments and Changes

Two submissions with comments on the proposed rule were received. No public meeting was requested, and none was held.

One comment was received suggesting that the safety zone be issued for a multi-year period similar to safety zones in the Gulf of Mexico. The Coast Guard disagrees. While the Coast Guard understands that the underlying justifications for the safety zone are not likely to change from year to year, we find that there are several operational and permitting variables with respect to these activities to support not continuing the safety zones period beyond the current 2012 drilling season as originally requested. Many of these variables would be considered substantive changes. Some of the factors that dictate a season by season publication of the safety zone include the possibility that a different vessel will be utilized for the exploratory wells; changes in the published prospect/drilling locations and corresponding latitude/longitude coordinates; significant changes in any approved future Outer Continental Shelf Lease Exploration Plans, and the limited timeframe each year (approximately 4 to 5 months) associated with actual on site activity. The nature of this activity as noted above is not comparable to the “manned production facility” operations in the Gulf of Mexico in that those safety zones are established for year-round operations on permanent structures that are engaged in the exploration and production of sub-sea resources. The Coast Guard will reconsider the temporary nature of these safety zones should the nature of the operations significantly change from solely seasonal exploratory drilling operations.

One comment asked for a clarification with regard to the probability of a catastrophic event resulting from an incident. The Coast Guard agrees and has amended the “Basis and Purpose” section of the Final Rule by changing the word “would” to “could” as it relates to the outcome of an “allision or inability to identify, monitor or mitigate ice-related hazards that might be encountered.”

One comment requested flexibility with respect to the effective dates of the temporary safety zone to allow for certain non-drilling demobilization activities. The Coast Guard understands the nature of the post-drilling activity and agrees that the safety zone effective period should be extended to provide that needed flexibility through November 30, 2012, but only while the vessel is on location as listed in Table 1 of the rule. The purpose of this change is to ensure the rule remains effective while the KULLUK completes demobilization activities on location, thereby enhancing the safety of the personnel aboard the OCS facility and the environment. The Coast Guard has amended the final rule to reflect the new effective termination date of December 1, 2012, so long as the vessel is on location and engaged in exploratory drilling demobilization activities until this date.

One comment requested flexibility with respect to dates the drilling rigs will be engaged in exploratory drilling, noting that the commencement of drilling activities may not be on July 1, 2012. The Coast Guard agrees and is amending language in the preamble relating to the commencement of drilling activity to be “on or about” July 1, 2012.

One comment requested the rule be amended to have the safety zone in effect once the vessel is “on location” while the mooring system is being deployed or recovered not only when the vessel is anchored. The Coast Guard agrees. The safety factors that were evaluated in determining that a safety zone was warranted while the vessel was anchored on location are substantially similar for when the vessel is on location and the mooring system is in the process of being deployed or recovered. The Coast Guard has amended § 147.T17-1143 to read: “The navigable waters, from the surface to seabed, within 500 meters (1,640.4 feet) from each point on the outer edge of the vessel, while anchored or deploying and recovering moorings on location, is a safety zone.”

Two comments recommended an extension of the outer boundaries of the safety zone to include the anchor chain extending from the OCS facilities; one comment recommended an extension to 1,500 meters from the vessel, the other recommended the zone extend to 50 meters beyond the anchor marker buoys of the mobile drilling vessel. The safety zone extends the maximum distance permitted as per 33 CFR 147.15, which establishes the limits of a safety zone at a distance of “500 meters around the OCS facility.” Further, the determination that the outer edge of the OCS facility is marked by the physical structure of the MODU not to include any area encompassed by the anchor spread is consistent with other safety zones established for other similar OCS facilities operating on the Outer Continental Shelf, which is a 500 meter enforcement radius from the outer edge of the OCS facility structure.

One comment stated the safety zone should be a moving safety zone and that it should be extended to all support and tow vessels involved in the operation and referenced previous safety zones established by the Coast Guard as precedent. The safety zones referenced by the commenter were established under the Ports and Waterways Safety Act (PWSA) (33 U.S.C. 1226(b)), under which the Coast Guard agrees it has the authority to establish moving safety zones for any vessel operating within the U.S. territorial seas. The safety zone encompasses areas outside of the U.S. territorial seas and extends to the maximum extent permitted by 33 CFR 147.10 which provides a maximum enforcement area of 500 meters from the OCS facility. 33 CFR 147 does not permit establishment of safety zones for non-OCS facilities. With respect to moving safety zones, safety zones may only be enforced while the OCS facility is being constructed, maintained, or operated on the Outer Continental Shelf. The Coast Guard, in conjunction with the Department of State, has determined that this definition does not include times where the OCS facility is in transit and not directly engaged in activity related to the exploration or extraction of mineral resources. Accordingly, the safety zone cannot be implemented or enforced during times where the OCS facility is transiting through the Exclusive Economic Zone (EEZ). With respect to vessel movements within the U.S. territorial seas, the Coast Guard is establishing separate moving safety zones under the PWSA through a separate rulemaking process which will include safety zones for support and tow vessels in addition to OCS facilities during periods of transit within the 12 nautical mile territorial sea in the vicinity of Dutch Harbor, Alaska.

One comment requested specific language granting State and Local officer's enforcement authority under 46 U.S.C. 70118, similar to safety zones established by the Coast Guard for the Columbia and Snake Rivers. Title 46 U.S.C. 70118 provides authority for state or local law enforcement officers to make arrests for safety zones established under the PWSA or Deepwater Port Act of 1974 (DPA) (33 U.S.C. 1509(d)). The PWSA does not apply for safety zones established outside of the territorial seas of the United States, and the DPA does not apply to the MODU to which the safety zone applies. The authority to implement this particular safety zone is based upon the Outer Continental Shelf Lands Act and 33 C.F.R 147. Accordingly, State and Local law enforcement officers do not have the authority to take law enforcement action due to the location of the safety zone.

One comment stated that the safety zone is overbroad and unnecessarily restricts first amendment rights. We disagree. The safety zones were created to facilitate safe navigation and promote the conduct of safe operations for entities engaging in lawful activities. However, actions taken which may potentially endanger or threaten either the individuals operating within this zone or the OCS facility within this zone will be subject to law enforcement action. There are no prohibitions on persons exercising free speech; however, actions that endanger persons or property within the safety zone are prohibited. Unauthorized vessels operating within this safety zone create an unnecessary risk to all vessels within the zone, including themselves. The Coast Guard determined this to be the best course of action given the complexities in the Arctic, which includes ice management issues, Marine Mammal Monitoring and Mitigation plan requirements, the lack of infrastructure in the Arctic, and a harsh, dynamic offshore environment. These complexities dictate reducing unnecessary risks associated with vessels not engaged in natural resource extraction activities operating near the KULLUK in order to significantly reduce the threat of allisions and oil spills, and at the same time increase the safety of life, property, and the environment in the Beaufort Sea. The Coast Guard believes that the 500-meter safety zone is ideal because it still provides sufficient area for persons to peacefully assemble or engage in legitimate protest activities outside of the safety zone.

One comment opined that the Coast Guard should be required to prepare an Environmental Assessment (EA) and Environmental Impact Statement (EIS) under NEPA. While safety zones are typically categorically excluded from NEPA analysis, the Coast Guard anticipates that it will have more assets operating in the Arctic than normal due to increased vessel traffic in the Arctic. Consequently, the Coast Guard has undertaken an EA to determine the environmental impacts of its operations in the Arctic during the summer of 2012, and the enforcement of the subject safety zone has been included for consideration of cumulative impacts.

One comment pointed out that a preliminary environmental analysis checklist and categorical exclusion determination were stated to be available in the online record, but was not available. A preliminary determination was not completed. The Coast Guard is not required to provide a preliminary environmental analysis checklist and categorical exclusion determination for a temporary safety zone until publication of the Final Rule. The reasoning is that safety zones are generally categorically excluded, and the Coast Guard wanted to review all public comments before completing the environmental analysis checklist and categorical exclusion determination in order to ensure that it accounted for all concerns. The environmental analysis checklist and categorical exclusion determination for this temporary safety zone is available in the docket, and can be obtained online following the direction provided in the ADDRESSES section above.

One comment stated that the safety zone will cause increased air pollution because the air permits issued for the KULLUK exclude air within the safety zones, and, therefore, the Coast Guard must undertake a “NEPA analysis” to determine the affects of any air emissions within the safety zone. The Coast Guard does not have the authority or agency expertise to issue air permits, and, therefore, does not have the authority to determine whether the issuance of those permits is appropriate. The safety zone is being implemented to enhance the safety of vessel operations during a period of increased vessel traffic at locations where any marine casualty will present unique challenges due to the remote locations, lack of infrastructure and unforgiving environmental variables.

One comment supported the determination to prohibit all vessels, irrespective of size from the safety zone. The Coast Guard determined this to be the best course of action given the complexities of this Arctic operation, which includes ice management issues, Marine Mammal and Mitigation plan requirements, and a harsh, dynamic offshore environment. The safety zones will significantly reduce the threat of allisions and oil spills, and at the same time increase the safety of life, property, and the environment in the Beaufort Sea.

A change was also made to clarify that the subject safety zones include “the navigable waters, from the surface to seabed.”

Regulatory Analyses

The Coast Guard developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

This rule is not a significant regulatory action due to the location of the MODU KULLUK on the Outer Continental Shelf and its distance from both land and safety fairways. Additional considerations were the relatively short period of time that the safety zone will be in effect and the limited size of the safety zone. Vessels traversing waters near the safety zone will be able to safely travel around the zone without incurring additional costs.

Small Entities

Under the Regulatory Flexibility Act (5 U.S.C. 601-612), the Coast Guard has considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. This rule could affect the following entities, some of which might be small entities: The owners or operators of vessels intending to transit or anchor in the Sivulliq and Torpedo Prospect of the Beaufort Sea, including Flaxman Island blocks 6610, 6658 and 6659 (See Table 1).

This safety zone will not have a significant economic impact or a substantial number of small entities for the following reasons: This rule will enforce a temporary safety zone around a MODU facility that is in an area of the Beaufort Sea not frequented by vessel traffic and is not in close proximity to a safety fairway. Further, vessel traffic can pass safely around the safety zone without incurring additional costs.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such expenditure, we do discuss the effects of this rule elsewhere in this preamble.

Taking of Private Property

This rule would not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

The Coast Guard has analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

The Coast Guard analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA)(42 U.S.C. 4321-4370f), and have concluded this action is one of a category of actions that do not individually or cumulatively have a significant effect on the human environment. This rule is categorically excluded, under figure 2-1, paragraph (34)(g), of the Instruction. This rule involves a temporary final rule for a safety zone that will be established for 1 week or longer. An environmental analysis checklist and a categorical exclusion determination are included in the docket, and can be obtained online by following the directions delineated in the ADDRESSES section above. Nevertheless, while safety zones are typically categorically excluded from NEPA analysis the Coast Guard anticipates that it will have more assets operating in the Arctic Ocean than normal due to increased vessel traffic in the Arctic Ocean. Consequently, the Coast Guard has undertaken an Environmental Assessment (EA) to determine the environmental impacts of its overall operations in the Arctic Ocean during the summer of 2012, and the enforcement of the subject safety zones has been included for consideration of cumulative impacts. Public hearings on the draft EA were held on May 30, 2012, in Anchorage, Alaska, and on May 31, 2012, in Barrow, Alaska.

List of Subjects in 33 CFR Part 147

Continental shelf, Marine safety, Navigation (water).

For the reasons discussed in the preamble, the Coast Guard amends 33 CFR part 147 as follows:

PART 147—SAFETY ZONES

1. The authority citation for part 147 continues to read as follows:

Authority: 14 U.S.C. 85; 43 U.S.C. 1333; Department of Homeland Security Delegation No. 0170.1.

2. Add § 147.T17-1143 to read as follows:

§ 147.T17-1143 Safety Zone; KULLUK, Outer Continental Shelf Mobile Offshore Drilling Unit (MODU), Beaufort Sea, Alaska.

(a) Description. (1) The KULLUK will be engaged in exploratory drilling operations at various locations in the Beaufort Sea on or about July 1, 2012, through November 30, 2012. The MODU will be anchored while conducting exploratory drilling operations with the center point of the vessel located at the coordinates listed in Table 1. These coordinates are based upon [NAD 83] UTM Zone 3.

Table 1—Prospect Locations
Drill Site | Lease file No. | NR06-04 Flaxman Island lease block No. | Surface location (NAD 83)*: Latitude (N) | Surface location (NAD 83)*: Longitude (W) | Distance to mainland shore mi (km)
Sivulliq G | OCS-Y 1805 | 6658 | 70°23′46.82″ | 146°01′03.46″ | 16.6 (26.7)
Sivulliq N | OCS-Y 1805 | 6658 | 70°23′29.58″ | 145°58′52.53″ | 16.2 (26.1)
Torpedo H | OCS-Y 1941 | 6610 | 70°27′01.62″ | 145°49′32.07″ | 20.8 (33.5)
Torpedo J | OCS-Y 1936 | 6559 | 70°28′56.94″ | 145°53′47.15″ | 23.1 (37.2)

(2) The navigable waters, from the surface to seabed, within 500 meters (1,640.4 feet) from each point on the outer edge of the vessel, while anchored or deploying and recovering moorings on location, is a safety zone. Lawful demonstrations may be conducted outside of the safety zone.

(b) Regulation. No vessel may enter or remain in this safety zone except the following:

(1) An attending vessel; or

(2) A vessel authorized by the Commander, Seventeenth Coast Guard District, or a designated representative. A “designated representative” is any Coast Guard commissioned, warrant or petty officer of the U.S. Coast Guard who has been designated by the Commander, Seventeenth Coast Guard District to act on his or her behalf.

(c) Penalties. Violation of this regulation may result in criminal or civil penalties, or both.

(d) Effective period. This rule is effective from July 1, 2012, and terminates on December 1, 2012, unless sooner terminated by the Commander, Seventeenth Coast Guard District.

Dated: June 13, 2012.
Thomas P. Ostebo,
Rear Admiral, U.S. Coast Guard, Commander, Seventeenth Coast Guard District.

[FR Doc. 2012-16116 Filed 6-29-12; 8:45 am]

BILLING CODE 9110-04-P